DEPARTMENT OF COMMERCE

International Trade Administration

[A-588-867]

Notice of Preliminary Negative Determination of Critical Circumstances: Metal Calendar Slides From Japan.

AGENCY: Import Administration, International Trade Administration, Department of Commerce.

SUMMARY: The Department of Commerce (Department) has preliminarily determined that critical circumstances do not exist with respect to imports of metal calendar slides (MCS) from Japan.

EFFECTIVE DATE: February 27, 2006.

FOR FURTHER INFORMATION CONTACT: Scott Lindsay, Dara Iserson, or Kimberley Hunt, AD/CVD Operations, Office 6, Import Administration, International Trade Administration, U.S. Department of Commerce, 14th Street and Constitution Avenue, NW., Washington, DC 20230; telephone: (202) 482-0780, (202) 482-4052, or (202) 482-1272, respectively.

SUPPLEMENTARY INFORMATION:

Period of Investigation

The POI is April 1, 2004 through March 31, 2005. This period corresponds to the four most recent fiscal quarters prior to the month of filing of the Petition for Imposition of Antidumping Duties on Metal Calendar Slides from Japan, (June 29, 2005) (Petition) involving imports from a market economy, and is in accordance with the Department's regulations. See 19 CFR 351.204(b)(1).

Scope of Investigation

For the purpose of this investigation, the products covered are MCS. The products covered in this investigation are “V” and/or “U” shaped MCS manufactured from cold-rolled steel sheets, whether or not left in black form, tin plated or finished as tin free steel (TFS), typically with a thickness from 0.19 mm to 0.23 mm, typically in lengths from 152 mm to 915 mm, typically in widths from 12 mm to 29 mm when the slide is lying flat and before the angle is pressed into the slide (although they are not typically shipped in this “flat” form), that are typically either primed to protect the outside of the slide against oxidization or coated with a colored enamel or lacquer for decorative purposes, whether or not stacked, and excluding paper and plastic slides. MCS are typically provided with either a plastic attached hanger or eyelet to hang and bind calendars, posters, maps or charts, or the hanger can be stamped from the metal body of the slide itself. These MCS are believed to be classified under Harmonized Tariff Schedule of the United States (HTSUS) subheading 7326.90.1000 (Other articles of iron and steel: Forged or stamped; but not further worked: Other: Of tinplate). This HTSUS number is provided for convenience and U.S. Customs and Border Protection purposes. The written description of the scope of this investigation is dispositive.

Case History

This investigation was initiated on July 19, 2005. See Notice of Initiation of Antidumping Duty Investigation: Metal Calendar Slides from Japan, 70 FR 43122 (July 26, 2005) (Initiation Notice). The preliminary determination was published on February 1, 2006. See Notice of Preliminary Determination of Sales at Less Than Fair Value: Metal Calendar Slides from Japan, 71 FR 5244 (February 1, 2006).

Although critical circumstances were not alleged in Petition, Stuebing Automatic Machine Co. (Petitioner) has maintained since the inception of this investigation that there is a reasonable basis to believe or suspect that critical circumstances exist with regard to imports of MCS from Japan. See Petition at 35. In Petition, Petitioner requested that the Department monitor imports of MCS pursuant to section 351.206(g) of the Department's regulations. Id. In the initiation, the Department stated that it would monitor imports of MCS from Japan and would request that the U.S. Customs and Border Protection (CBP) compile information on an expedited basis regarding entries of the subject merchandise. See Initiation Notice.

Respondent, Nishiyama Kinzoku Co., Ltd. (Nishiyama), in its response to the Department's December 7, 2005, supplemental questionnaire, submitted the volume and value of its monthly shipments to the United States for calendar years 2003 through 2005. See Nishyama's Supplemental Questionnaire Response (December 27, 2005) at Exhibit 25. On January 10, 2006, the Department placed CBP IM 115 data covering the period of January 1, 2003 through October 31, 2005 on the record of this investigation. See Memorandum from Dara Iserson, Case Analyst, through Thomas Gulgunn, Program Manager, to the File: Antidumping Duty Investigation of Metal Calendar Slides from Japan: The Placing of U.S. Bureau of Customs and Border Protection IM-115 Data on the Record, (January 10, 2006) (IM 115 Memo). On January 19, 2006, petitioner alleged that critical circumstances exist with respect to imports of MCS from Japan. See Petitioners' Comments on Calculation Issues (January 19, 2006) at 17.

Comments of the Parties

Petitioner states that the record clearly demonstrates that shipments and imports surged during the post-Petition period (i.e., June-December 2005) when compared to the pre-Petition period (i.e., January-June 2005). See Petitioner's Comments on Calculation Issues (January 19, 2006) at 17. Petitioner claims that the IM 115 Memo demonstrates that imports were more than 25 percent greater in the post-Petition period in comparison to the pre-Petition period based on CBP's IM115 data. Id. Additionally, petitioner states that Nishiyama's shipment data shows an increase of more than 25 percent based on pieces and value. Id. (citing Nishiyama's Supplemental Questionnaire Response (December 27, 2005) at Exhibit 25). Petitioner states that these increases clearly meet the Department's standards for determining that imports were massive within a relatively short period.

Analysis

Section 733(e)(1) of the Tariff Act of 1930, as amended (“the Act”), provides that the Department will preliminarily determine that critical circumstances exist if there is a reasonable basis to believe or suspect that: (A)(i) there is a history of dumping and material injury by reason of dumped imports in the United States or elsewhere of the subject merchandise; or (ii) the person by whom, or for whose account, the merchandise was imported knew or should have known that the exporter was selling the subject merchandise at less than its fair value and that there was likely to be material injury by reason of such sales; and, (B) there have been massive imports of the subject merchandise over a relatively short period.

Section 351.206(h)(1) of the Department's regulations provides that, in determining whether imports of the subject merchandise have been “massive,” the Department normally will examine: (i) The volume and value of the imports; (ii) seasonal trends; and (iii) the share of domestic consumption accounted for by the imports. In addition, section 351.206(h)(2) of the Department's regulations provides that an increase in imports of 15 percent during the “relatively short period” of time may be considered “massive.” Section 351.206(i) of the Department's regulations defines “relatively short period'' as normally being the period beginning on the date the proceeding begins (i.e., the date the petition is filed) and ending at least three months later. The Department's regulations also provide, however, that if the Department finds that importers, exporters, or producers had reason to believe, at some time prior to the beginning of the proceeding, that a proceeding was likely, the Department may consider a period of not less than three months from that earlier time.

In determining whether the relevant statutory criteria have been satisfied, we considered: (i) Exporter-specific shipment data submitted in Nishiyama's December 27, 2005, response; (ii) the CBP IM 115 data the Department placed on the record on January 10, 2006, and (iii) the ITC preliminary injury determination.

To determine whether there is a history of injurious dumping of the merchandise under investigation, in accordance with section 733(e)(1)(A)(i) of the Act, the Department normally considers evidence of an existing antidumping duty order on the subject merchandise in the United States or elsewhere to be sufficient. See Preliminary Determination of Critical Circumstances: Steel Concrete Reinforcing Bars From Ukraine and Moldova, 65 FR 70696 (November 27, 2000). With regard to imports of MCS from Japan, the petitioners make no specific mention of a history of dumping for Japan. We are not aware of any antidumping duty order in the United States or in any other country on MCS from Japan. For this reason, the Department does not find a history of injurious dumping of the subject merchandise from Japan pursuant to section 733(e)(1)(A)(i) of the Act.

To determine whether the person by whom, or for whose account, the merchandise was imported knew or should have known that the exporter was selling the subject merchandise at less than its fair value and that there was likely to be material injury by reason of such sales in accordance with Section 733(e)(1)(A)(ii) of the Act, the Department normally considers margins of 25 percent or more for EP sales, or 15 percent or more for CEP transactions, sufficient to impute knowledge of dumping. See e.g., Preliminary Determination of Sales at Less Than Fair Value: Certain Cut-to-Length Carbon Steel Plate from the People's Republic of China, 62 FR 31972, 31978 (October 19, 2001).

For Nishiyama, we determine that there is not a sufficient basis to find that the importer should have known that the exporter was selling the subject merchandise at less than its fair value and that there was likely to be material injury by reason of such sales pursuant to section 733(e)(1)(A)(ii) of the Act because the calculated preliminary margin for Nishiyama's EP sales, 7.68 percent, was less than 25 percent. See Notice of Preliminary Determination of Sales at Less Than Fair Value: Metal Calendar Slides from Japan, 71 FR 5244 (February 1, 2006). Nishayama did not have any CEP sales during this period. Because the knowledge criterion has not been met, we will not address the second criterion of whether imports were massive in the comparison period when compared to the base period.

Regarding the companies subject to the “all others” rate, it is the Department's normal practice to conduct its critical circumstances analysis for these companies based on the experience of investigated companies. See Notice of Final Determination of Sales at Less Than Fair Value: Certain Steel Concrete Reinforcing Bars From Turkey, 62 FR 9737, 9741 (March 4, 1997). However, the Department does not automatically extend an affirmative critical circumstances determination to companies covered by the “all others” rate. See Notice of Final Determination of Sales at Less Than Fair Value: Stainless Steel Sheet and Strip in Coils from Japan, 64 FR 30574 and accompanying Issues and Decision Memorandum, at Comment 14 (June 8, 1999) (Stainless Steel from Japan). Instead, the Department considers the traditional critical circumstances criteria with respect to the companies covered by the “all others” rate. Consistent with Stainless Steel from Japan, the Department has, in this case, applied the traditional critical circumstances criteria to the “all others” category for the antidumping investigation of MCS from Japan.

The dumping margin for the “all others” category in the instant case, 7.68 percent, does not exceed the 25 percent threshold necessary to impute knowledge of dumping. Therefore, we find that there is no reasonable basis to determine that importer knew or should have known that the exporter was selling the subject merchandise at less than its fair value and that there was likely to be material injury by reason of such sales.

Conclusion

Given the analysis discussed above, we preliminarily determine critical circumstances do not exist for imports of MCS from Japan. We will make a final determination concerning critical circumstances for MCS from Japan when we make our final dumping determination in this investigation, on April 10, 2006 (unless extended).

International Trade Commission Notification

In accordance with section 733(f) of the Act, we will notify the International Trade Commission of our determination.

This determination is issued and published pursuant to sections 733(f) and 777(i)(1) of the Act.

Dated: February 21, 2006.
David M. Spooner,
Assistant Secretary for Import Administration.

[FR Doc. E6-2732 Filed 2-24-06; 8:45 am]

BILLING CODE 3510-DS-S